DEPARTMENT OF THE INTERIOR

Bureau of Reclamation

Notice of Preparation of Supplemental Draft Environmental Impact Statement and Supplemental Information Regarding Red River Valley Water Supply Project, North Dakota

AGENCY: Bureau of Reclamation, Interior.

ACTION: Notice of preparation of a supplemental draft environmental impact statement (SDEIS) and notice of the current status and future activities related to the draft environmental impact statement (DEIS) for the Red River Valley Water Supply Project (Project).

SUMMARY: The Bureau of Reclamation (Reclamation) and State of North Dakota's designee, Garrison Diversion Conservancy District (Garrison Diversion), as joint lead agencies preparing the DEIS, are continuing work under the National Environmental Policy Act on the environmental impact statement (EIS) for the proposed Red River Valley Water Supply Project, located in North Dakota and Minnesota. This notice is being published to provide information related to the current status of the DEIS and preparation of a SDEIS.

DATES: The formal comment period on the DEIS remains open and we will continue to receive and consider relevant public comments as the SDEIS is prepared.

ADDRESSES: Send comments to Signe Snortland, Red River Valley Water Supply Project, Bureau of Reclamation, Dakotas Area Office, P.O. Box 1017, Bismarck, ND 58502, or fax to (701) 250-4326. You may submit e-mail to ssnortland@gp.usbr.gov.

FOR FURTHER INFORMATION CONTACT: Signe Snortland, telephone: (701) 250-4242 extension 3619. You may access the Red River Valley Water Supply Project Web site at http://www.rrvwsp.com.

SUPPLEMENTARY INFORMATION: Reclamation and Garrison Diversion, as joint lead agencies preparing the EIS, believe that new information and/or additional analyses, relevant to environmental concerns and issues raised by (EPA) and the public, regarding potential effects of the Project, indicate a need to prepare a SDEIS consistent with the CEQ regulations (40 CFR 1502.9(a)). This may lead to development of alternatives that would need to be described and included in the SDEIS and be subject to public review and comment.

The notice of intent to prepare the DEIS was published in the Federal Register on October 8, 2002 (67 FR 195, 62813). The notice of availability of the DEIS, notice of public hearings, and additional information on the Red River Valley Water Supply Project was published in the Federal Register on December 30, 2005 (70 FR 250, 77425-77427). In response to requests by United States Environmental Protection Agency (EPA) and others, Reclamation and Garrison Diversion extended the comment period, through March 30, 2006 (71 FR 34, 8873-8874), then through April 14, 2006 (71 FR 68, 18116), and then announced on April 13, 2006 that the formal comment period would remain open while the SDEIS is being prepared. Availability of the SDEIS will be announced in the Federal Register later in 2006. All comments received on the DEIS and the SDEIS will be fully considered and responded to in the final EIS (FEIS). The FEIS is scheduled for release by December 31, 2006.

Public Disclosure Statement

Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Dated: July 14, 2006.
Donald E. Moomaw,
Acting Regional Director, Great Plains Region.

[FR Doc. E6-11598 Filed 7-20-06; 8:45 am]

BILLING CODE 4310-MN-P